DEPARTMENT OF COMMERCE

National Oceanic and Atmospheric Administration

[I.D. 050405C]

Western Pacific Fishery Management Council; Public Scoping Meeting

AGENCY: National Marine Fisheries Service (NMFS), National Oceanic and Atmospheric Administration (NOAA), Commerce.

ACTION: Notice of a public scoping meeting.

SUMMARY: There are two shark tour operations based in Haleiwa. The operations are banned from operating in Hawaii State Waters. The staff of the Western Pacific Fishery Management Council (Council) will convene a public scoping meeting to: (1) gather comment on shark viewing operations in Federal waters, and (2) to disseminate and gather information on the Council's Community Based Management initiatives.

DATES: The public scoping meeting will be held on Monday, May 23, 2005, from 6 p.m. to 9 p.m.

ADDRESSES: The meeting will be held at the Haleiwa Alii Beach Park, John Kalili Surf Center, Oahu, HI.

FOR FURTHER INFORMATION CONTACT: Kitty M. Simonds, Executive Director; Western Pacific Fishery Management Council; telephone: (808) 522-8220.

SUPPLEMENTARY INFORMATION: This meeting will be advertised in the local newspapers. Written comments will be accepted until May 30, 2005. They may be sent to Kitty M. Simonds, Executive Director, Western Pacific Fishery Management Council, 1164 Bishop St., Suite 1400, Honolulu, HI 96813 or via fax to (808) 522-8226.

Special Accommodations

These meetings are physically accessible to people with disabilities. Requests for sign language interpretation or other auxiliary aids should be directed to Kitty M. Simonds, (808) 522-8220 (voice) or (808) 522-8226 (fax), at least 5 days prior to the meeting date.

Dated: May 4, 2005.
Emily Menashes,
Acting Director, Office of Sustainable Fisheries, National Marine Fisheries Service.

[FR Doc. E5-2226 Filed 5-6-05; 8:45 am]

BILLING CODE 3510-22-S